DEPARTMENT OF COMMERCE

Bureau of Industry and Security

Action Affecting Export Privileges; Ernest Koh Chong Tek; In the Matter of: Ernest Koh Chong Tek currently incarcerated at: USM #73762-053 Federal Correctional Inst. (FCI) P.O. Drawer 30 McRae, Georgia 31055 and with an address at: Bkl 136 #09-430 Bishan Street 12 Singapore 570136;

Order Denying Export Privileges

A. Denial of Export Privileges of Ernest Koh Chong Tek

On October 13, 2006, in the U.S. District Court in the Eastern District of New York, Ernest Koh Chong Tek, (“Koh”) was convicted of violating the International Emergency Economic Powers Act (50 U.S.C. 1701-1705 (2000)) (“IEEPA”). The court found that Koh did knowingly and willfully export from the United States to Iran, civilian aircraft wheel components and vanes that were listed on the Commerce Control Lists without first obtaining the required validated export license from the Commerce Department and the Department of the Treasury's Office of Foreign Assets Control. In addition, Koh was also found guilty on one count of conspiracy and one count of money laundering. Koh was sentenced to a term of imprisonment of 52 months followed by three years of supervised release.

Section 11(h) of the Export Administration Act of 1979, as amended (currently codified at 50 U.S.C. app. §§ 2401-2420 (2000)) (“Act”) ¹ and Section 766.25 of the Export Administration Regulations ² (“Regulations”) provide, in pertinent part, that “[t]he Director of the Office of Exporter Services, in consultation with the Director of the Office of Export Enforcement, may deny the export privileges of any person who has been convicted of a violation of * * * any regulation, license or order issued under the International Emergency Economic Powers Act,” for a period not to exceed 10 years from the date of conviction. 15 CFR 766.25(a) and (d). In addition, Section 750.8 of the Regulations states that Bureau of Industry's (“BIS”) Office of Exporter Services may revoke any BIS licenses previously issued in which the person had an interest in at the time of his conviction.

¹ Since August 21, 2001, the Act has been in lapse and the President, through Executive Order 13222 of August 17, 2001 (3 CFR, 2001 Comp. 783 (2002)), as extended by the Notice of August 15, 2007 (72 FR 46137, Aug. 16, 2007), has continued the Regulations in effect under the International Emergency Economic Powers Act (50) U.S.C. 1701-1706 (2000)) (“IEEPA”).

² The Regulations are currently codified at 15 CFR Parts 730-774 (2007).

I have received notice of Koh's conviction for violating the IEEPA, and have provided notice and an opportunity for Koh to make a written submission to the Bureau of Industry and Security as provided in Section 766.25 of the Regulations. Having received no submission from Koh, I, following consultations with BIS's Office of Export Enforcement, including its Director, have decided to deny Koh's export privileges under the Regulations for a period of 10 years from the date of Koh's conviction.

Accordingly, it is hereby ordered.

I. Until October 13, 2016, Ernest Koh Chong Tek, Ernest Koh Chong Tek, currently incarcerated at: USM #73762-053, Federal Correctional Inst. (FCI), P.O. Drawer 30, McRae, Georgia 31055, and with an address at: Blk 136 #09-430 Bishan Street 12, Singapore 570136, and when acting for or on behalf of Koh, his representatives, assigns, agents, or employees, (collectively referred to hereinafter as the “Denied Person”) may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

II. No person may, directly or indirectly, do any of the following:

A. Export or reexport to or on behalf of the Denied Person any item subject ot the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

III. After notice and opportunity for comment as provided in section 766.23 of the Regulations, any other person, firm, corporation, or business organization related to Ernest Koh Chong Tek by affiliation, ownership, control, or position of responsibility in the conduct of trade or related services may also be made subject to the provisions of this Order if necessary to prevent evasion of the Order.

IV. This Order does not prohibit any export, reexport, or other transaction subject to the Regulations where the only items involved that are subject to the Regulations are the foreign-produced direct product of U.S.-origin technology.

V. This Order is effective immediately and shll remain in effect until October 13, 2016.

VI. In accordance with Part 756 of the Regulations, Koh may file an appeal of this Order with the Under Secretary of Commerce for Industry and Security. The appeal must be filed within 45 days from the date of this Order and must comply with the provisions of Part 756 of the Regulations.

VII. A copy of this Order shall be delivered to Koh. This Order shall be published in Federal Register.

Dated: November 27, 2007.
Eileen M. Albanese,
Director, Office of Exporter Services.

[FR Doc. 07-5986 Filed 12-7-07; 8:45 am]

BILLING CODE 3510-DT-M